DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, March 2, 2018, 8:30 a.m. to March 2, 2018, 5:00 p.m., Hilton Washington/Rockville, 1750 Rockville Pike, Rockville, MD, 20852 which was published in the Federal Register on February 6, 2018, 83 FR 5265.

The meeting date has changed from March 2, 2018 from 8:30 a.m. to 5:00 p.m. to March 13, 2018 from 10:30 a.m. to 3:30 p.m. The meeting is closed to the public.

Dated: March 6, 2018.
Michelle Trout,
Program Analyst, Office of Federal Advisory Committee Policy.

[FR Doc. 2018-04949 Filed 3-9-18; 8:45 am]

BILLING CODE 4140-01-P